DEPARTMENT OF ENERGY

Federal Energy Regulatory Commission

Notice of Application for Transfer of License and Soliciting Comments, Motions to Intervene, and Protests

September 14, 2000.

Take notice that the following hydroelectric application has been filed with the Commission and is available for public inspection:

a. Application Type: Transfer of License.

b. Project No: 3511-011.

c. Date Filed: August 15, 2000.

d. Applicants: UAH-Groveville Hydro Associates and Central Hudson Gas & Electric Corporation.

e. Name of Project: Groveville Power.

f. Location: The project is located on Fishkill Creek in Dutchess County, New York. The project does not utilize federal or tribal lands.

g. Filed Pursuant to: Federal Power Act, 16 U.S.C. §§ 791(a)-825(r).

h. Applicant Contacts: UAH-Groveville Hydro Associates: Judith Lagano, UAH Management Corp., c/o United American Hydropower Corp., 50 Tice Blvd., Woodcliff Lake, NJ 07675; and Central Hudson Gas & Electric Corporation: William J. Madden, Jr., John A. Wittaker, IV, Winston & Strawn, 1400 L Street, N.W., Washington, D.C. 20005, (202) 371-5700 and Ronald P. Brand, Senior Vice President—Special Projects, Central Hudson Gas & Electric Corporation, 284 South Avenue, Poughkeepsie, NY 12601, (845) 486-5260.

i. FERC Contact: Any questions on this notice should be addressed to Dave Snyder at (202) 219-2385.

j. Deadline for filing comments and or motions: October 19, 2000.

All documents (original and eight copies) should be filed with: David P. Boergers, Secretary, Federal Energy Regulatory Commission, 888 First Street, NE., Washington, DC 20426.

Please include the Project Number (3511-011) on any comments or motions filed.

k. Description of Transfer: UAH-Groveville Hydro Associates (transferor), licensee of the Groveville Power Project, and Central Hudson Gas & Electric Corporation (transferee) jointly and severally apply for approval of the transfer of the project license to the transferee.

l. Locations of the Application: A copy of the application is available for inspection and reproduction at the Commission's Public Reference Room, located at 888 First Street, NE., Room 2A, Washington, DC 20426, or by calling (202) 208-1371. The application may be viewed on the web at www.ferc.fed.us/online/rims.htm. Call (202) 208-2222 for assistance. A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-24095 Filed 9-19-00; 8:45 am]

BILLING CODE 6717-01-M